DEPARTMENT OF ENERGY

Secretary of Energy Advisory Board

AGENCY: Department of Energy.

ACTION: Notice of open meeting.

SUMMARY: The Department of Energy hereby publishes a notice of open meeting on October 25, 2022, of the Secretary of Energy Advisory Board (SEAB). This meeting will be held virtually for members of the public and in-person at Oak Ridge National Laboratory, 1 Bethel Valley Rd., Oak Ridge, TN 37830 for SEAB members only.

DATES: Tuesday, October 25, 2022; 9:00 a.m.-1:30 p.m. Eastern Time.

ADDRESSES: Virtual meeting for members of the public. Board members, Department of Energy (DOE) representatives, agency liaisons, and Board support staff will participate in-person, strictly following COVID-19 precautionary measures To track virtual attendees, registration is required by registering at the SEAB October 25 meeting page here: https://www.energy.gov/seab/seab-meetings.

FOR FURTHER INFORMATION CONTACT: David Borak, Acting Director, Office of Secretarial Boards and Councils, U.S. Department of Energy, 1000 Independence Avenue SW, Washington, DC 20585; Phone: (202) 586-5216; or email: seab@hq.doe.gov.

SUPPLEMENTARY INFORMATION:

Background: The Board was established to provide advice and recommendations to the Secretary on the Administration's energy policies; the Department's basic and applied research and development activities; economic and national security policy; and other activities as directed by the Secretary.

Purpose of the Meeting: This is the sixth meeting of Secretary Jennifer M. Granholm's SEAB.

Tentative Agenda: The meeting will start at 9:00 a.m. Eastern Time on October 25, 2022. The tentative meeting agenda includes: roll call, remarks from the Secretary, remarks from the SEAB chair, discussion of grid resiliency, SEAB working group report-outs, discussion of grid-scale storage and public comments. The meeting will conclude at approximately 1:30 p.m. The meeting times and content are subject to change. Meeting materials can be found here: https://www.energy.gov/seab/seab-meetings.

Public Participation: The meeting is open to the public via a virtual meeting option. Individuals who would like to attend must register for the meeting here: https://www.energy.gov/seab/seab-meetings.

Individuals and representatives of organizations who would like to offer comments and suggestions may do so during the meeting. Approximately 15 minutes will be reserved for public comments. Time allotted per speaker will depend on the number who wish to speak but will not exceed three minutes. The Acting Director of the Office of Secretarial Boards and Councils is empowered to conduct the meeting in a fashion that will facilitate the orderly conduct of business. Those wishing to speak should register to do so via email, seab@hq.doe.gov, no later than 5:00 p.m. on Monday, October 24, 2022.

Those not able to attend the meeting or who have insufficient time to address the committee are invited to send a written statement to David Borak, U.S. Department of Energy, 1000 Independence Avenue SW, Washington, DC 20585, or email to: seab@hq.doe.gov.

Minutes: The minutes of the meeting will be available on the SEAB website or by contacting Mr. Borak. He may be reached at the above postal address or email address, or by visiting SEAB's website at www.energy.gov/seab.

Signing Authority

This document of the Department of Energy was signed on September 23, 2022, by Shena Kennerly, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 23, 2022.
Treena V. Garrett,
Federal Register Liaison Officer, U.S. Department of Energy.

[FR Doc. 2022-20978 Filed 9-27-22; 8:45 am]

BILLING CODE 6450-01-P